DEPARTMENT OF LABOR

Employment and Training Administration

[TA-W-85,075]

Duro Textiles, LLC, Finishing and Print Plants, A Wholly Owned Subsidary of Patriarch Partners, LLC, Including On-Site Leased Workers From LT Staffing and Able Associates, Fall River, Massachusetts; Notice of Negative Determination Regarding Application for Reconsideration

By application dated May 5, 2014, a company official requested administrative reconsideration of the Department of Labor's negative determination regarding eligibility to apply for worker adjustment assistance, applicable to workers and former workers of Duro Textiles, LLC, Finishing & Print Plants, a wholly owned subsidiary of Patriarch Partners, LLC, including on-site leased workers from LT Staffing and Able Associates, Fall River, Massachusetts (subject firm). The negative determination was signed on April 8, 2014, and the Department's Notice of determination was published in the Federal Register on April 29, 2014 (79 FR 24018).

Workers of the subject firm are engaged in activities related to the production of fabrics.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The negative determination of the Trade Adjustment Assistance (TAA) petition was based on the Department's finding of no increased company or customer imports of like or directly competitive articles during the relevant period and no shift of production to a foreign country by the subject firm. During the investigation, the Department conducted a survey of the subject firm and its major declining customers of import activity, and had conducted a survey on a major lost bid on a contract. In addition, the Department determined that a secondary worker certification could not be issued because the criteria set forth in Section 222(b) of the Trade Act of 1974, as amended (the Act), was not met.

The request for reconsideration asserts that Section 222(a)(1) and Section 222(a)(2)(A)(1) of the Act have been met, and, therefore, the workers are eligible to apply for TAA.

The negative determination was not based on the Department's finding that the employment and sales/production decline criteria was not met; rather, the subject firm did not shift fabric production to a foreign country, imports of articles like or directly competitive with the fabric produced by the workers did not increase during the relevant period, and the subject firm is neither a Supplier or Producer under Section 222(c) of the Act.

The petitioner did not supply facts not previously considered; nor provide additional documentation indicating that there was either (1) a mistake in the determination of facts not previously considered or (2) a misinterpretation of facts or of the law justifying reconsideration of the initial determination. Based on these findings, the Department determines that 29 CFR 90.18(c) has not been met.

Conclusion

After careful review of the application and investigative findings, I conclude that there has been no error or misinterpretation of the law or of the facts which would justify reconsideration of the Department of Labor's prior decision. Accordingly, the application is denied.

Signed in Washington, DC, this 13th day of June, 2014.
Del Min Amy Chen,
Certifying Officer, Office of Trade Adjustment Assistance.

[FR Doc. 2014-15190 Filed 6-27-14; 8:45 am]

BILLING CODE 4510-FN-P